EQUAL EMPLOYMENT OPPORTUNITY COMMISSION

Recordkeeping and Reporting Requirements Under Title VII

AGENCY: Equal Employment Opportunity Commission.

ACTION: Local Union Report (EEO-3): Cancellation of hearing.

SUMMARY: Notice is hereby given that the Commission is cancelling the public hearing on the above proposed information collection—extension with change: the Local Union Report (EEO-3). (79 FR 51161, August 27, 2014). No requests to present oral testimony at a hearing concerning the information collection were received from the public. Therefore, it will not be necessary to hold the hearing.

FOR FURTHER INFORMATION CONTACT: Ronald Edwards, Director, Program Research and Surveys Division, Equal Employment Opportunity Commission, 131 M Street NE., Room 4SW30F, Washington, DC 20507; (202) 663-4949 (voice) or (202) 663-7063 (TTY).

Dated: November 25, 2014.
For the Commission.
Jenny R. Yang,
Chair.

[FR Doc. 2014-28668 Filed 12-5-14; 8:45 am]

BILLING CODE 6570-01-P